DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Date and Time: November 15, 2006, 1 p.m. to 3:30 p.m. (Eastern Time).

Place: Audio Conference Call, Telephone: 1-866-727-1333, Password: 7822925.

Status: The meeting will be open to the public.

Purpose: The purpose of the meeting is to discuss services and issues related to the health of migrant and seasonal farmworkers and their families to be able to formulate recommendations to the Secretary of Health and Human Services.

Agenda: The agenda includes an overview of the Council's general business activities. The Council will also hear presentations from experts on farmworker issues, including the status of farmworkers health at the local and national level.

Agenda items are subject to change as priorities indicate.

For Further Information Contact: Anyone requiring information regarding the Council should contact Gladys Cate, Office of Minority and Special Populations, Bureau of Primary Health Care, Health Resources and Services Administration, 5600 Fishers Lane, Parklawn Building, Room 15-99, Rockville, Maryland 20857, telephone (301) 594-0367.

Dated: October 31, 2006.
Cheryl R. Dammons,
Director, Division of Policy Review and Coordination.

[FR Doc. E6-18626 Filed 11-3-06; 8:45 am]

BILLING CODE 4165-15-P